DEPARTMENT OF HEALTH AND HUMAN SERVICES

Administration for Children and Families

Submission for Office of Management and Budget Review; American Relief Act 2025 Disaster Supplemental Funds for Child Care (New Collection)

AGENCY: The Office of Child Care, Administration for Children and Families, U.S. Department of Health and Human Services.

ACTION: Request for public comments.

SUMMARY: The Office of Child Care (OCC), Administration for Children and Families (ACF) is requesting applications for disaster relief funding. OCC will be requesting information from eligible Lead Agencies who are interested in receiving these funds.

DATES: Comments due June 26, 2025. OMB must decide about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this information collection by selecting “Currently under 30-day Review—Open for Public Comments” or by using the search function. You can also obtain copies of the proposed collection of information by emailing infocollection@acf.hhs.gov. Identify all emailed requests by the title of the information collection.

SUPPLEMENTARY INFORMATION:

Description: The American Relief Act, 2025 provided $250,000,000 in disaster relief funding to OCC to distribute to eligible states, territories, and tribes in response to the consequences of major disasters and emergencies declared pursuant to the Robert T. Stafford Disaster Relief and Emergency Assistance Act (42 U.S.C. 5121 et seq.) occurring in 2023 and 2024.

OCC will be requesting information from eligible Child Care and Development Fund (CCDF) Lead Agencies who are interested in receiving these funds. The information requested includes the relevant major disaster or emergency declaration; a detailed description of the affected area; a detailed description of the impact on children, families, staff, and child care services; a description of each proposed activity; information on previous expenses incurred related to the disaster or emergency; and the total amount of funds requested. OCC will use the information received to inform decisions about distribution of funds.

Respondents: State, territory, and Tribal Lead Agencies.

Annual Burden Estimates

Respondents would provide one response to this request and information. The following burden estimates reflect the total estimated burden, which is expected within the first year of approval.

Instrument | Total number of respondents | Total number of responses per respondent | Average burden hours per response | Total burden hours
ACF-OCC-CCDF-PI-2025-X (Disaster Supplemental Funds for Child Care-2023 and 2024 major disasters and emergencies) | 70 | 1 | 80 | 5,600

Authority: Public Law 118-158.

Mary C. Jones,
ACF/OPRE Certifying Officer.

[FR Doc. 2025-09381 Filed 5-23-25; 8:45 am]

BILLING CODE 4184-01-P